NATIONAL SCIENCE FOUNDATION

Emergency Clearance; Public Information Collection Requirements Submitted to the Office of Management and Budget; Notice

AGENCY: National Science Foundation.

ACTION: Emergency clearance: public information collection requirements submitted to the Office of Management and Budget (OMB).

SUMMARY: The National Science Foundation (NSF) is announcing plans to request emergency approval of this collection. In accordance with the requirement of Section 3506(c)(2)(A) of the Paperwork Reduction Act of 1995 (Pub. L. 104-13), we are providing an opportunity for public comment on this action. After obtaining and considering public comment, NSF will prepare the submission requesting that OMB approve clearance of this collection for no longer than six months.

DATES: Interested persons are invited to send comments regarding the burden or any other aspect of these collections of information requirements. However, as noted below, comments on these information collection and record keeping requirements must be received by the designees referenced below by December 26, 2002

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov, and Office of Information and Regulatory Affairs, Office of Management and Budget, Room 10235, New Executive Office Building, Washington, DC 20503. Attn: Stuart Shapiro, NSF Desk Officer.

COMMENTS: Written comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; or (d) ways to minimize the burden of the collection of information on those who are to respond, including through the use of appropriate automated, electronic, mechanical, or other technological collection techniques or other forms of information technology.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. When we have received approval, we will begin the process for regular approval.

FOR FURTHER INFORMATION CONTACT: Suzanne H. Plimpton, Reports Clearance Officer, National Science Foundation, 4201 Wilson Boulevard, Suite 295, Arlington, Virginia 22230; telephone (703) 292-7556; or send email to splimpto@nsf.gov. Individuals who use a telecommunications device for the deaf (TDD) may call the Federal Information Relay Service (FIRS) at 1-800-877-8339 between 8 a.m. and 8 p.m., Eastern time, Monday through Friday.

SUPPLEMENTARY INFORMATION: Title: Survey of Research and Development Expenditures at Universities and Colleges: Fiscal Year 2002.

OMB Approval Number: OMB 3145-0100.

Expiration Date: April 30, 2002.

Use of the Information: This survey is conducted as an annual census of about 610 academic institutions and their 16 Federally-funded research and development centers. NSF's Division of Science Resources Statistics designs, supports, directs and administers periodic surveys and other data collections, including R&D surveys. Recently, coverage of (the Survey of Research and Development Expenditures at Universities and Colleges, http://www.nsf.gov/sbe/srs/rdexp/start.htm) was expanded to collect information on R&D about each of the Nation's 36 Federally-funded R&D centers, whether administered by universities (16), industrial firms (4), or nonprofit organizations (16). (As directed under the Federal Acquisition Regulations recorded in the Federal Register “35.017-6 Master list of FFRDCs, [t]he National Science Foundation (NSF) maintains a list of FFRDCs. Primary sponsors will provide information on each FFRDC, including sponsoring agreements, mission statements, funding data, and type of R&D being performed, to the NSF upon its request for such information.” The Division of Science Resources Statistics (SRS) maintains the Master FFRDC List, and thus fulfills this responsibility of NSF's as well. * * *

The academic institutions account for over 95 percent of the Nation's academic R&D funds. This survey has provided continuity of statistics since 1954 on R&D expenditures by source of funds and by science & engineering (S&E) field, with separate data requested on current fund expenditures for research equipment by S&E field. Statistics from the survey are published in NSF's annual publication series Academic Science and Engineering R&D Expenditures and are available electronically on the World Wide Web.

The survey will be submitted electronically primarily to the administrators at the Institutional Research Offices. To minimize burden and provide for security, each institution is provided with their institutional code and password. Files are pre-loaded with the institution's previous year's data, instructions, help menus, and a complete program for editing and trend checking. A link is provided to print a complete pdf survey form. Respondents are encouraged to submit their response electronically via the web. Approximately 95% responded via the web and only 15 used other means to submit their data (telephone, paper, email) to this voluntary survey in FY 2001. A total response rate of 95.6% was obtained. Burden estimates are as follows:

Years | Doctorate-granting burden hours | Masters-granting burden hours | Bachelors degree or below burden hours
FY 1999 | 29.3 | 13.0 | 7.4
FY 2000 | 28.7 | 12.0 | 10.4
FY 2001 | 30.2 | 11.9 | 9.0

Dated: November 26, 2002.
Suzanne H. Plimpton,
Reports Clearance Officer, National Science Foundation.

[FR Doc. 02-30526 Filed 12-2-02; 8:45 am]

BILLING CODE 7555-01-M